ENVIRONMENTAL PROTECTION AGENCY

[EPA-HQ-OW-2008-0692; FRL-8730-6]

RIN 2040-ZA02

Drinking Water: Preliminary Regulatory Determination on Perchlorate; Correction

AGENCY: Environmental Protection Agency (EPA).

ACTION: Notice; correction.

SUMMARY: The Environmental Protection Agency published a document in the Federal Register of October 10, 2008, concerning request for comments on the Agency's Preliminary Regulatory Determination on Perchlorate. The document contained an incorrect Docket number. The correct Docket number is EPA-HQ-OW-2008-0692.

FOR FURTHER INFORMATION CONTACT: Stephanie Flaharty, Office of Ground Water and Drinking Water, at (202) 564-5270, or e-mail: flaharty.stephanie@epa.gov. For general information contact the EPA Safe Drinking Water Hotline at (800) 426-4791 or e-mail: hotline-sdwa@epa.gov.

Correction

In the Federal Register (FR) of October 10, 2008, in FR Doc. FRL-8727-6, on page 60262, correct the header to read [EPA-HQ-OW-2008-0692]; and, on page 60263, correct the ADDRESSES section to read:

ADDRESSES: Submit your comments, identified by Docket ID No. EPA-HQ-OW-2008-0692, by one of the following methods:

• www.regulations.gov: Follow the on-line instructions for submitting comments.

• Mail: Water Docket, Environmental Protection Agency, Mailcode: 2822T, 1200 Pennsylvania Ave., NW., Washington, DC 20460.

• Hand Delivery: Water Docket, EPA Docket Center (EPA/DC) EPA West, Room 3334, 1301 Constitution Ave., NW., Washington, DC. Such deliveries are only accepted during the Docket's normal hours of operation, and special arrangements should be made for deliveries of boxed information.

Instructions: Direct your comments to Docket ID No. EPA-HQ-OW-2008-0692. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Unit I.B of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Water Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the EPA Docket Center is (202) 566-2426.

Dated: October 10, 2008.
Cynthia C. Dougherty,
Director, Office of Ground Water and Drinking Water.

[FR Doc. E8-24694 Filed 10-16-08; 8:45 am]

BILLING CODE 6560-50-P